DEPARTMENT OF HOMELAND SECURITY

U.S. Customs and Border Protection

[Docket No. USCBP-2020-0018]

Request for Applicants for Appointment to the U.S. Customs and Border Protection User Fee Advisory Committee

AGENCY: U.S. Customs and Border Protection, Department of Homeland Security.

ACTION: Committee Management; Request for Applicants for Appointment to the U.S. Customs and Border Protection User Fee Advisory Committee.

SUMMARY: U.S. Customs and Border Protection (CBP) is requesting individuals who are interested in serving on the CBP User Fee Advisory Committee (UFAC or Committee) to apply for appointment. UFAC is tasked with providing advice to the Secretary of Homeland Security through the Commissioner of CBP on matters related to the performance of inspections coinciding with the assessment of a customs or immigration user fee.

DATES: Applications for membership should be submitted to CBP at the address below on or before July 27, 2020.

ADDRESSES: If you wish to apply for membership, your application should be submitted by one of the following means:

• Email: TRADEEVENTS@cbp.dhs.gov.

• Fax: (202) 325-4290.

• Mail: Ms. Sonja Grant, Office of Trade Relations, U.S. Customs and Border Protection, 1300 Pennsylvania Avenue NW, Room 3.5A, Washington, DC 20229.

FOR FURTHER INFORMATION CONTACT: Ms. Sonja Grant, Office of Trade Relations, U.S. Customs and Border Protection, 1300 Pennsylvania Avenue NW, Room 3.5A, Washington, DC 20229; telephone (202) 344-1440; facsimile (202) 325-4290.

SUPPLEMENTARY INFORMATION: UFAC is an advisory committee established in accordance with the provisions of the Federal Advisory Committee Act, 5 U.S.C. Appendix (“FACA”), and operates according to the provisions of FACA except as specified in 8 U.S.C. 1356(k) and 19 U.S.C. 58c(k).

Balanced Membership Plans: The Committee may consist of up to 20 members. Members are appointed by and serve at the pleasure of the Secretary of Homeland Security. Members are selected to represent the points of view of the airline, cruise line, maritime, trucking, rail, transportation, and other industries that may be subject to customs or immigration user fees. Members may not be Special Government Employees as defined in 18 U.S.C. 202(a). To achieve a fairly balanced membership, the composition of an advisory committee's membership will depend upon several factors, including the advisory committee's mission; the geographic, ethnic, social, economic, or scientific impact of the advisory committee's recommendations; the types of specific perspectives required (such as those of consumers, technical experts, the public at-large, academia, business, etc.); the need to obtain divergent points of view on the issues before the advisory committee; and, the relevance of state, local, or tribal governments to the development of the advisory committee's recommendations. The Commissioner of CBP will consider a cross-section of those directly affected, interested, and qualified, as appropriate to the nature and functions of the Committee. Individuals with expertise in transportation legislative/regulatory/government affairs, transportation finance (ticket sale operations, fee collection and remittance, passenger and cargo revenue accounting, corporate treasury management and cash and traffic forecasting, and international carrier bonds), and global distribution systems are encouraged to apply. Members will not be paid or reimbursed for any travel, lodging expenses, or related costs for their participation on the Committee.

Committee Meetings:

The Committee is expected to have an in-person public meeting at least once per charter year. The meetings may be held in Washington, DC or at other locations with CBP operations with the approval of the Designated Federal Officer. UFAC meetings will be open to the public unless a determination is made by the appropriate Department of Homeland Security official in accordance with Department of Homeland Security policy and directives that the meeting should be closed pursuant to 5 U.S.C. 552b(c).

Committee Membership:

Members will serve a three-year term of office that runs from the date that their appointment letters are signed. Members will not be paid compensation by the Federal Government for their services with respect to the Committee. Members will not be paid or reimbursed for any travel, lodging expenses, or related costs for their participation on the Committee.

Application for Advisory Committee Appointment

Any interested person wishing to serve on UFAC must provide the following:

• Statement of interest and reasons for application;

• Complete professional resume;

• Home address and telephone number;

• Work address, telephone number, and email address; and

• Statement of the industry you represent.

Dated: June 4, 2020.
Mark A. Morgan,
Acting Commissioner, U.S. Customs and Border Protection.

[FR Doc. 2020-12509 Filed 6-9-20; 8:45 am]

BILLING CODE 9111-14-P